DEPARTMENT OF COMMERCE

National Oceanic and Atmospheric Administration

RIN 0648-XA515

Gulf of Mexico Fishery Management Council (Council); Public Meeting

AGENCY: National Marine Fisheries Service (NMFS), National Oceanic and Atmospheric Administration (NOAA), Commerce.

ACTION: Notice of a public meeting.

SUMMARY: The Gulf of Mexico Fishery Management Council will convene a public meeting via webinar.

DATES: The meeting will be held July 12, 2011. See SUPPLEMENTARY INFORMATION for time.

ADDRESSES: The meeting will be held via webinar.

Council address: Gulf of Mexico Fishery Management Council, 2203 North Lois Avenue, Suite 1100, Tampa, FL 33607.

FOR FURTHER INFORMATION CONTACT: Dr. Richard Leard, Deputy Executive Director, Gulf of Mexico Fishery Management Council; telephone: (813) 348-1630.

SUPPLEMENTARY INFORMATION: The Gulf of Mexico Fishery Management Council will hold a meeting via webinar to review its June 2011 actions regarding preferred alternatives for annual catch limit and accountability measures for Gulf group Spanish and possibly make modifications.

The webinar is scheduled to begin at 10 a.m./EST, 9 a.m./CST on July 12, 2011 and is expected last no longer than 30 minutes. Interested persons must register to participate in the webinar via the Gulf Council's Web site at http://www.gulfcouncil.org. Participation may be by computer or telephone. An agenda and meeting materials may be obtained by contacting the Council at the address listed above.

Although other non-emergency issues not on the agendas may come before the Council for discussion, in accordance with the Magnuson-Stevens Fishery Conservation and Management Act (Magnuson-Stevens Act), those issues may not be the subject of formal action during the meeting. Actions of the Council will be restricted to those issues specifically identified in the agenda and any issues arising after publication of this notice that require emergency action under Section 305(c) of the Magnuson-Stevens Act, provided the public has been notified of the Council's intent to take action to address the emergency.

Special Accommodations

The meeting is physically accessible to people with disabilities. Requests for sign language interpretation or other auxiliary aids should be directed to Kathy Pereira at the Council (see ADDRESSES) at least 5 working days prior to the meeting.

Dated: June 20, 2011.
Tracey L. Thompson,
Acting Director, Office of Sustainable Fisheries, National Marine Fisheries Service.

[FR Doc. 2011-15769 Filed 6-23-11; 8:45 am]

BILLING CODE 3510-22-P